DEPARTMENT OF ENERGY

Energy Information Administration

Policy Statement; Disclosure Limitation Policy for Statistical Information Based on Petroleum Supply Reporting System Survey Data

AGENCY: Energy Information Administration (EIA), Department of Energy (DOE).

ACTION: Policy statement. Disclosure limitation policy for statistical information based on Petroleum Supply Reporting System survey data.

SUMMARY: The EIA is announcing its disclosure limitation policy for statistical information based on Petroleum Supply Reporting System (PSRS) survey data. Beginning with survey data for January 2004, EIA extends its 1986 policy of not applying disclosure limitation methods to statistics based on PSRS survey data to all PSRS survey information collected under a pledge of confidentiality. EIA will continue to protect information collected under a pledge of confidentiality by not publicly releasing respondent-level survey data directly linked to names or other identifiers. With the increasing number of different petroleum products, enlarged product detail breakdowns, and declines in the number of companies reporting on many of the PSRS surveys, this policy helps to ensure EIA's continuing ability to disseminate detailed petroleum supply information. This policy supports EIA's mandate for carrying out a central, comprehensive, and unified energy data and information program responsive to users' needs for credible, reliable, and timely energy information that will improve and broaden understanding of petroleum supply in the United States.

DATES: This policy becomes effective January 21, 2004.

ADDRESSES: Requests for additional information or questions about this policy should be directed to Stefanie Palumbo. Contact by FAX (202-586-5846), e-mail (stefanie.palumbo@eia.doe.gov), or telephone (202-586-6866) is recommended to expedite receipt and response. The mailing address is Petroleum Division, EI-42, Forrestal Building, U.S. Department of Energy, 1000 Independence Ave., SW., Washington, DC 20585.

FOR FURTHER INFORMATION CONTACT: Requests for additional information should be directed to Ms. Palumbo at the address listed above.

SUPPLEMENTARY INFORMATION:

I. Background

II. Discussion of Comments

III. Current Actions

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

On November 20, 2003, EIA issued a Federal Register notice (68 FR 65452) requesting public comments on its disclosure limitation policy for statistical information based on Petroleum Supply Reporting System (PSRS) survey data. Beginning with survey data for January 2004, EIA proposed to extend its 1986 policy of not applying disclosure limitation methods to statistics based on PSRS survey data to all PSRS survey information collected under a pledge of confidentiality. When used, disclosure limitation methods are designed to minimize the possibility that individually-identifiable information reported by a survey respondent may be inferred from published statistics. The use of disclosure limitation methods would result in some petroleum supply statistics being suppressed from public dissemination and unavailable to public and private analysts. However, by not using disclosure limitation methods, a statistic based on PSRS data from fewer than three respondents or dominated by data from one or two large respondents may be used by a knowledgeable person to estimate the data reported by a specific respondent.

In the November 20, 2003 notice, EIA discussed the proposed policy as well as EIA's reasons for proposing it. In addition to publishing the notice, EIA sent e-mail messages to PSRS survey respondents mentioning the notice and including information on accessing the notice through the Internet.

The types of information collected in the PSRS surveys and the detailed level of statistical information disseminated by EIA follow a pattern first established by the Bureau of Mines in 1917. The PSRS surveys include weekly, monthly, and annual surveys designed to provide information on petroleum supply at various levels of detail given tradeoffs between timeliness and improved accuracy. For 2004, the PSRS surveys will include the following forms:

• EIA-800, Weekly Refinery and Fractionator Report,

• EIA-801, Weekly Bulk Terminal Report,

• EIA-802, Weekly Product Pipeline Report,

• EIA-803, Weekly Crude Oil Stocks Report,

• EIA-804, Weekly Imports Report,

• EIA-805, Weekly Terminal Blenders Report,

• EIA-810, Monthly Refinery Report,

• EIA-811, Monthly Bulk Terminal Report,

• EIA-812, Monthly Product Pipeline Report,

• EIA-813, Monthly Crude Oil Report,

• EIA-814, Monthly Imports Report,

• EIA-815, Monthly Terminal Blenders Report,

• EIA-816, Monthly Natural Gas Liquids Report,

• EIA-817, Monthly Tanker and Barge Movement Report,

• EIA-819, Monthly Oxygenate Report, and

• EIA-820, Annual Refinery Report.

While the specific forms and data elements in the PSRS surveys are expected to change over time to reflect the industry, the disclosure limitation policy will apply to all PSRS survey information collected under a pledge of confidentiality beginning with survey data for January 2004. The overall purpose of the PSRS will continue to be providing credible, reliable, and timely information on the petroleum industry. Detailed information is integral to adequately understanding the U.S. petroleum supply situation.

II. Discussion of Comments

EIA received one letter. However, the letter included no comments addressing the proposed disclosure limitation policy for statistical information based on PSRS survey data.

III. Current Actions

EIA announces its policy that beginning with survey data for January 2004, EIA extends its 1986 policy of not applying disclosure limitation methods to statistics based on PSRS survey data to all PSRS survey information collected under a pledge of confidentiality. However, EIA will continue to protect information collected under a pledge of confidentiality by not publicly releasing respondent-level survey data directly linked to names or other identifiers. This policy will result in EIA providing comprehensive, detailed PSRS information to the public, and will facilitate public understanding of the petroleum industry. However, it also means that a knowledgeable person may be able to estimate the value of selected data items provided by specific respondents.

Statutory Authority: Section 52 of the Federal Energy Administration Act (Pub. L. 93-275, 15 U.S.C. 790a).

Issued in Washington, DC, January 12, 2004.
Guy F. Caruso,
Administrator, Energy Information Administration.

[FR Doc. 04-1202 Filed 1-20-04; 8:45 am]

BILLING CODE 6450-01-P